DEPARTMENT OF THE INTERIOR

Fish and Wildlife Service

Issuance of Permit for Marine Mammals

AGENCY: Fish and Wildlife Service, Interior.

ACTION: Notice of issuance of permit for marine mammals.

SUMMARY: The following permits were issued.

ADDRESSES: Documents and other information submitted for these applications are available for review by any party who submits a written request to the U.S. Fish and Wildlife Service, Division of Management Authority, 4401 North Fairfax Drive, Room 700, Arlington, Virginia 22203; fax (703) 358-2281.

FOR FURTHER INFORMATION CONTACT: Division of Management Authority, telephone 703/358-2104.

SUPPLEMENTARY INFORMATION: On January 11, 2002, a notice was published in the Federal Register (67 FR 1494), that an application had been filed with the Fish and Wildlife Service by Trevor Davis for a permit (PRT-051276) to import one polar bear taken from the Norwegian Bay population, Canada, for personal use.

Notice is hereby given that on March 13, 2002, as authorized by the provisions of the Marine Mammal Protection Act of 1972, as amended (16 U.S.C. 1361 et seq.) the Fish and Wildlife Service issued the requested permit subject to certain conditions set forth therein.

On January 22, 2002, a notice was published in the Federal Register (67 FR 2900), that an application had been filed with the Fish and Wildlife Service by Ken Morrill for a permit (PRT-051613) to import one polar bear taken from the Lancaster Sound population, Canada, for personal use.

Notice is hereby given that on April 2, 2002, as authorized by the provisions of the Marine Mammal Protection Act of 1972, as amended (16 U.S.C. 1361 et seq.) the Fish and Wildlife Service issued the requested permit subject to certain conditions set forth therein.

On February 8, 2002, a notice was published in the Federal Register (67 FR 6048), that an application had been filed with the Fish and Wildlife Service by Ralph Schaller for a permit (PRT-052375) to import one polar bear taken from the Western Hudson Bay population, Canada, for personal use.

Notice is hereby given that on March 18, 2002, as authorized by the provisions of the Marine Mammal Protection Act of 1972, as amended (16 U.S.C. 1361 et seq.) the Fish and Wildlife Service issued the requested permit subject to certain conditions set forth therein.

On March 7, 2002, a notice was published in the Federal Register (67 FR 10430), that an application had been filed with the Fish and Wildlife Service by Wayne W. Webber for a permit (PRT-052890) to import one polar bear taken from the Western Hudson Bay population, Canada, for personal use.

Notice is hereby given that on April 30, 2002, as authorized by the provisions of the Marine Mammal Protection Act of 1972, as amended (16 U.S.C. 1361 et seq.) the Fish and Wildlife Service issued the requested permit subject to certain conditions set forth therein.

On April 25, 2002, a notice was published in the Federal Register (67 FR 20544), that an application had been filed with the Fish and Wildlife Service by Richard Hawkins for a permit (PRT-055367) to import one polar bear taken from the Lancaster Sound population, Canada, for personal use.

Notice is hereby given that on June 12, 2002, as authorized by the provisions of the Marine Mammal Protection Act of 1972, as amended (16 U.S.C. 1361 et seq.) the Fish and Wildlife Service issued the requested permit subject to certain conditions set forth therein.

On April 25, 2002, a notice was published in the Federal Register (67 FR 20544), that an application had been filed with the Fish and Wildlife Service by Jerry P. Mariska for a permit (PRT-055368) to import one polar bear taken from the Lancaster Sound population, Canada, for personal use.

Notice is hereby given that on June 12, 2002, as authorized by the provisions of the Marine Mammal Protection Act of 1972, as amended (16 U.S.C. 1361 et seq.) the Fish and Wildlife Service issued the requested permit subject to certain conditions set forth therein.

On April 25, 2002, a notice was published in the Federal Register (67 FR 20544), that an application had been filed with the Fish and Wildlife Service by Richard B. Sapa for a permit (PRT-055302) to import one polar bear taken from the Southern Beaufort Sea population, Canada, for personal use.

Notice is hereby given that on June 19, 2002, as authorized by the provisions of the Marine Mammal Protection Act of 1972, as amended (16 U.S.C. 1361 et seq.) the Fish and Wildlife Service issued the requested permit subject to certain conditions set forth therein.

On May 7, 2002, a notice was published in the Federal Register (67 FR 30720), that an application had been filed with the Fish and Wildlife Service by Thomas P. Bruner for a permit (PRT-055566) to import one polar bear taken from the Lancaster Sound population, Canada, for personal use.

Notice is hereby given that on June 28, 2002, as authorized by the provisions of the Marine Mammal Protection Act of 1972, as amended (16 U.S.C. 1361 et seq.) the Fish and Wildlife Service issued the requested permit subject to certain conditions set forth therein.

On May 30, 2002, a notice was published in the Federal Register (67 FR 37853), that an application had been filed with the Fish and Wildlife Service by John F. Baker for a permit (PRT-056495) to import one polar bear taken from the Southern Beaufort Sea population, Canada, for personal use.

Notice is hereby given that on July 10, 2002, as authorized by the provisions of the Marine Mammal Protection Act of 1972, as amended (16 U.S.C. 1361 et seq.) the Fish and Wildlife Service issued the requested permit subject to certain conditions set forth therein.

Dated: July 26, 2002.
Monica Farris,
Senior Permit Biologist, Branch of Permits, Division of Management Authority.

[FR Doc. 02-21108 Filed 8-19-02; 8:45 am]

BILLING CODE 4310-55-P